COMMISSION ON CIVIL RIGHTS

Sunshine Act Meetings

AGENCY: United States Commission on Civil Rights.

ACTION: Notice of Commission public briefing, Language Access for Individuals with Limited English Proficiency.

DATES: Friday, March 21, 2025, 10:00 a.m. EST *.

ADDRESSES: Meeting to take place in person and is open to the public.

U.S. Commission on Civil Rights, 1331 Pennsylvania Ave. NW, Suite 1150, Washington, DC 20425

The meeting will also be livestreamed on the Commission's YouTube page: https://www.youtube.com/user/USCCR/videos.

FOR FURTHER INFORMATION CONTACT: Joe Kim: 202-499-0263; publicaffairs@usccr.gov.

SUPPLEMENTARY INFORMATION: The U.S. Commission on Civil Rights will hold a briefing on Friday, March 21, 2025, to examine the extent to which language barriers impact access to government services and healthcare for individuals with limited English proficiency (LEP). The investigation will explore how government agencies and recipients of federal funding provide language access, the challenges of language access, and best practices for improving language access.

At this public briefing, the Commission will hear from subject matter experts such as language access researchers and attorneys, federal and state government officials, community advocates, and impacted persons.

Computer assisted real-time transcription (CART) will be provided. The web link to access CART (in English) on Friday, March 21, 2025, is https://www.streamtext.net/player?event=USCCR. Please note that CART is a text-only translation that occurs in real time during the meeting and is not an exact transcript.

To request additional accommodations, persons with disabilities should email access@usccr.gov by Monday, March 17, 2025, indicating “accommodations” in the subject line.

Briefing Agenda for Language Access for Individuals With Limited English Proficiency

10:00 a.m.-4:50 p.m. EST *

I. Introductory Remarks: 10:00 a.m.-10:10 a.m.

II. Panel 1: Overview of the Current Language Access Landscape: 10:10-11:20 a.m.

III. Break: 11:20-11:30 a.m.

IV. Panel 2: Language Access in Government Services and Healthcare: 11:30 a.m.-12:40 p.m.

V. Lunch: 12:40-2:10 p.m.

VI. Panel 3: From the Field: Community Advocates' Views on Language Access: 2:10-3:20 p.m.

VII. Break: 3:20 p.m.-3:30 p.m.

VIII. Panel 4: From the Field: The Lived Experiences of Individuals with Limited English Proficiency: 3:30 p.m.-4:40 p.m.

IX. Closing Remarks: 4:40-4:50 p.m.

X. Adjourn Meeting.

* Schedule is subject to change.

Call for Public Comments

In addition to the testimony collected on Friday, March 21, 2025, via public briefing, the Commission welcomes the submission of material for consideration as we prepare our report. Please submit such information to languageaccess@usccr.gov no later than April 21, 2025, or by mail to OCRE/Public Comments, ATTN: Language Access LEP, U.S. Commission on Civil Rights, 1331 Pennsylvania Ave. NW, Suite 1150, Washington, DC 20425.

Dated: March 13, 2025.
David Mussatt,
Supervisory Chief, Regional Programs Unit.

[FR Doc. 2025-04415 Filed 3-13-25; 4:15 pm]

BILLING CODE 6335-01-P